DEPARTMENT OF JUSTICE

Antitrust Division

Notice Pursuant to the National Cooperative Research and Production Act of 1993—MLCommons Association

Notice is hereby given that, on June 13, 2024, pursuant to section 6(a) of the National Cooperative Research and Production Act of 1993, 15 U.S.C. 4301 et seq. (“the Act”), MLCommons Association (“MLCommons”) filed written notifications simultaneously with the Attorney General and the Federal Trade Commission disclosing changes in its membership. The notifications were filed for the purpose of extending the Act's provisions limiting the recovery of antitrust plaintiffs to actual damages under specified circumstances. Specifically, tinygrad, Corp., San Diego, CA; Foxconn Industrial internet Co., Ltd., Shenzhen City, PEOPLE'S REPUBLIC OF CHINA; Hot Aisle, Inc., Cheyenne, WY; GATE Overflow Educational Services LLP, Thiruvananthapuram, INDIA; SeonJin Na (individual member), Atlanta, GA; Hashim Shaik (individual member), Monmouth Junction, NJ; David Tweedle (individual member), San Fernando, TRINIDAD AND TOBAGO; André Bertolace (individual member), Oxford, UNITED KINGDOM; Abhinav Moudgil (individual member), London, UNITED KINGDOM; David Hou (individual member), Fremont, CA; Fengxiang He (individual member), Edinburgh, UNITED KINGDOM; Satyapriya Krishna (individual member), Allston, MA; Da Song (individual member), Edmonton, CANADA; Lei Ma (individual member), Bunkyo-Ku, JAPAN; Yuheng Huang (individual member), Bunkyo City, JAPAN; Alin Navas (individual member), Dundrum, IRELAND; and J. Francisco Munoz-Elguezabal (individual member), Guadalajara, MEXICO, have been added as parties to this venture.

No other changes have been made in either the membership or planned activity of the group research project. Membership in this group research project remains open and MLCommons intends to file additional written notifications disclosing all changes in membership.

On September 15, 2020, MLCommons filed its original notification pursuant to section 6(a) of the Act. The Department of Justice published a notice in the Federal Register pursuant to section 6(b) of the Act on September 29, 2020 (85 FR 61032).

The last notification was filed with the Department on April 3, 2024. A notice was published in the Federal Register pursuant to section 6(b) of the Act on April 16, 2024 (89 FR 26925).

Suzanne Morris,
Deputy Director Civil Enforcement Operations, Antitrust Division.

[FR Doc. 2024-20734 Filed 9-11-24; 8:45 am]

BILLING CODE P